DEPARTMENT OF THE TREASURY

Office of Foreign Assets Control

Unblocking of Specially Designated Nationals and Blocked Persons Pursuant to the Foreign Narcotics Kingpin Designation Act

AGENCY: Office of Foreign Assets Control, Treasury.

ACTION: Notice.

SUMMARY: The Department of the Treasury's Office of Foreign Assets Control (“OFAC”) is publishing the names of five individuals and two entities whose property and interests in property have been unblocked pursuant to the Foreign Narcotics Kingpin Designation Act (“Kingpin Act”) (21 U.S.C. 1901-1908, 8 U.S.C. § 1182).

DATES: The unblocking and removal from the list of Specially Designated Nationals and Blocked Persons (“SDN List”) of the five individuals and two entities identified in this notice whose property and interests in property were blocked pursuant to the Kingpin Act, is effective on December 19, 2012.

FOR FURTHER INFORMATION CONTACT: Assistant Director, Sanctions Compliance & Evaluation, Department of the Treasury, Office of Foreign Assets Control, Washington, DC 20220, Tel: (202) 622-2420.

SUPPLEMENTARY INFORMATION:

Electronic and Facsimile Availability

This document and additional information concerning OFAC are available from OFAC's web site at www.treasury.gov/ofac or via facsimile through a 24-hour fax-on demand service at (202) 622-0077.

Background

On December 3, 1999, the Kingpin Act was signed into law by the President of the United States. The Kingpin Act provides a statutory framework for the President to impose sanctions against significant foreign narcotics traffickers and their organizations on a worldwide basis, with the objective of denying their businesses and agents access to the U.S. financial system and to the benefits of trade and transactions involving U.S. persons and entities.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property or interests in property, subject to U.S. jurisdiction, of persons or entities found to be: (1) Materially assisting in, or providing financial or technological support for or to, or providing goods or services in support of, the international narcotics trafficking activities of a person designated pursuant to the Kingpin Act; (2) owned, controlled, or directed by, or acting for or on behalf of, a person designated pursuant to the Kingpin Act; and/or (3) playing a significant role in international narcotics trafficking.

On December 19, 2012, the Director of OFAC removed from the SDN List the five individuals and two entities listed below, whose property and interests in property were blocked pursuant to the Kingpin Act:

Individuals

1. DE GORTARI LOYOLA, Federico, c/o REPRESENTACIONES INTUR, S.A. DE C.V., Chihuahua, Chihuahua, Mexico; c/o ESTUDIOS Y PROYECTOS INTEGRALES DEL NORTE, S.C., Chihuahua, Chihuahua, Mexico; c/o GRUPO STA CHIHUAHUA, S.A. DE C.V., Chihuahua, Chihuahua, Mexico; 3210 Calle Michigan, Fraccionamiento Quintas Del Sol, Chihuahua, Chihuahua, Mexico; DOB 10 Apr 1962; POB Culiacan, Sinaloa, Mexico; nationality Mexico; citizen Mexico; R.F.C. GOLF-620610-M61 (Mexico); C.U.R.P. GOLF620410HSLRYD08 (Mexico) (individual) [SDNTK].

2. LOPEZ FERNANDEZ, Manuel (a.k.a. LOPEZ FERNANDEZ, Juan Manuel), c/o SERVICIO AEREO LEO LOPEZ, S.A. DE C.V., Chihuahua, Chihuahua, Mexico; c/o REPRESENTACIONES INTUR, S.A. DE C.V., Chihuahua, Chihuahua, Mexico; c/o GRUPO STA CHIHUAHUA, S.A. DE C.V., Chihuahua, Chihuahua, Mexico; c/o COMERCIALIZADORA ITAKA, S.A. DE C.V., Chihuahua, Chihuahua, Mexico; 4123 Avenida California, Fraccionamiento Quintas Del Sol, Chihuahua, Chihuahua, Mexico; Calle Ohio 3200, Chihuahua, Chihuahua, Mexico; DOB 19 Jan 1972; POB Chihuahua, Chihuahua, Mexico; nationality Mexico; citizen Mexico; R.F.C. LOFJ720119-CR9 (Mexico); C.U.R.P. LOFJ720119HCHPRN03 (Mexico) (individual) [SDNTK].

3. LOPEZ FERNANDEZ, Noemi (a.k.a. LOPEZ DE DE GORTARI, Noemi; a.k.a. LOPEZ FERNANDEZ DE GORTARI, Noemi; a.k.a. LOPEZ FERNANDEZ, Nohemi), c/o SERVICIO AEREO LEO LOPEZ, S.A. DE C.V., Chihuahua, Chihuahua, Mexico; c/o REPRESENTACIONES INTUR, S.A. DE C.V., Chihuahua, Chihuahua, Mexico; c/o ESTUDIOS Y PROYECTOS INTEGRALES DEL NORTE, S.C., Chihuahua, Chihuahua, Mexico; 3210 Calle Michigan, Fraccionamiento Quintas del Sol, Chihuahua, Chihuahua, Mexico; DOB 05 Oct 1966; POB Chihuahua, Chihuahua, Mexico; nationality Mexico; citizen Mexico; C.U.R.P. LOFN661005MCHPRH08 (Mexico) (individual) [SDNTK].

4. LOPEZ GRAYEB, Leopoldo (a.k.a. LOPEZ GRAYEB, Leopoldo Antonio), c/o SERVICIO AEREO LEO LOPEZ, S.A. DE C.V., Chihuahua, Chihuahua, Mexico; c/o REPRESENTACIONES INTUR, S.A. DE C.V., Chihuahua, Chihuahua, Mexico; c/o PV STAR, S.A. DE C.V., Chihuahua, Chihuahua, Mexico; California y Ohio #4123, Chihuahua, Chihuahua, Mexico; Avenida California #4123, Fraccionamiento Quintas Del Sol, Chihuahua, Chihuahua, Mexico; 10660 Parkview Circle, El Paso, TX 79935; Ohio No. 4123, Col Quintas Del Sol, Chihuahua, Chihuahua 31214, Mexico; DOB 13 Sep 1937; POB Xalapa, Veracruz, Mexico; nationality Mexico; citizen Mexico; SSN 636-24-0389 (United States); R.F.C. LOGL37091322A (Mexico); C.U.R.P. LOGL370913HVZPRP01 (Mexico) (individual) [SDNTK].

5. SANCHEZ OSUNA, Carlos Alberto, Blvd. Industrial 1700, Colonia Otay Tecnologico, Tijuana, Baja California, Mexico; c/o GRUPO GAMAL, S.A. DE C.V., Guadalajara, Jalisco, Mexico; DOB 29 Mar 1971 (individual) [SDNTK].

Entities:

1. SERVICIO AEREO LEO LOPEZ, S.A. DE C.V., Coronado #421, Colonia Centro, Chihuahua, Chihuahua 31000, Mexico; Aeropuerto Internacional, Apartado Postal 586, Chihuahua, Chihuahua 31390, Mexico; R.F.C. SAL8003122W7 (Mexico); alt. R.F.C. SAL581025 (Mexico) [SDNTK].

2. REPRESENTACIONES INTUR, S.A. DE C.V., Antonio Ortiz 2409, Colonia Quintas Del Sol, Chihuahua, Chihuahua 31250, Mexico; R.F.C. RIN-010219 (Mexico) [SDNTK].

Dated: December 19, 2012.
Adam J. Szubin,
Director, Office of Foreign Assets Control.

[FR Doc. 2012-31207 Filed 12-27-12; 8:45 am]

BILLING CODE 4810-AL-P